ENVIRONMENTAL PROTECTION AGENCY

[FRL-6700-2]

Good Neighbor Environmental Board Meeting

AGENCY: Environmental Protection Agency (EPA).

ACTION: Notice of meeting.

SUMMARY: The Good Neighbor Environmental Board will meet from May 25-26, 2000, in Las Cruces, New Mexico in its role as advisor to Congress and the President on creating and maintaining an environmentally sustainable U.S.-Mexico border region. The entire meeting is open to the public; a distinct public comment session scheduled for 11:30-12 noon on May 25.

DATES AND TIME: The Board will meet from 9 a.m. to 5:30 p.m. on Thursday, May 25, and from 9 a.m. to 12 noon on Friday, May 26 Mountain Time.

LOCATION: The meeting will take place at the Best Western Mesilla Valley Inn and Conference Center in Las Cruces, New Mexico. The address is: 901 Avenida de Mesilla, Las Cruces, New Mexico 88005. The phone number is (505) 524-8603. The Inn is located south of Las Cruces on Highway 28 across the railroad tracks right after Highway 185 and before Interstate 185.

AGENDA: The Board will be briefed on numerous topics related to its advisory role. In addition, it will discuss topics including the following: The value of specific border activities, the role of governmental and nongovernmental initiatives, upcoming recommendations to Congress and the President, the Board's relationship with its Mexican counterpart federal advisory committee, and ongoing business including distribution of the Annual Report and plans for the next meeting.

PUBLIC ATTENDANCE: Seating in the meeting room is available on a first-come, first-served basis. Members of the public who plan to file written statements and/or make brief oral statements should contact the Designated Federal Officer for the Board (see details below) by May 20.

Background

The Good Neighbor Environmental Board was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The Board meets three times annually. The U.S. Environmental Protection Agency gives notice of this meeting of the Good Neighbor Environmental Board pursuant to the Federal Advisory Committee Act (Pub. L. 92-463).

FOR FURTHER INFORMATION CONTACT: Please contact the Designated Federal Officer for the Good Neighbor Environmental Board: Elaine M. Koerner, Office of Cooperative Environmental Management, Office of the Administrator, USEPA, MC1601A, 1200 Pennsylvania Ave. NW, Washington, DC 20004, (202) 564-1484, koerner.elaine@epa.gov.

Dated: May 4, 2000.
Gordon Schisler,
Deputy Director, Office of Cooperative Environmental Management.

[FR Doc. 00-12136 Filed 5-12-00; 8:45 am]

BILLING CODE 6560-50-M